DEPARTMENT OF DEFENSE

Office of the Secretary

[Docket ID: DoD-2008-OS-0135]

Privacy Act of 1974; System of Records

AGENCY: Office of the Secretary, DoD.

ACTION: Notice to add a new system of records.

SUMMARY: The Office of the Secretary of Defense is adding a new system of records notice in its existing inventory of record systems subject to the Privacy Act of 1974 (5 U.S.C. 552a), as amended.

DATES: This proposed action will be effective without further notice on December 12, 2008 unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-2386.

SUPPLEMENTARY INFORMATION: The Office of the Secretary of Defense systems of records notices subject to the Privacy Act of 1974 (5 U.S.C. 552a), as amended, have been published in the Federal Register and are available from the address above.

The proposed systems reports, as required by 5 U.S.C. 552a(r) of the Privacy Act of 1974, as amended, were submitted on October, 24, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2008.
Morgan E. Frazier,
Alternate OSD Federal Register Liaison Officer, Department of Defense.

DAU 07

System name:

Acquisition Community Connection (ACC) Members Records.

System location:

Defense Acquisition University, DAU-ELTC, 9820 Belvoir Road, Ft. Belvoir, Virginia 22060-5565.

Categories of individuals covered by the system:

DoD personnel (civilian and military), civilian employees of other Federal Agencies, and members of supporting defense industries who have requested accounts for the Acquisition Community Connection (ACC).

Categories of records in the system:

Individual's name, e-mail address, organization, phone number, and biographic information such as expertise, background, and education.

Authority for maintenance of the system:

10 U.S.C. 136, Under Secretary of Defense for Personnel and Readiness and DoD Instruction 5000.57, Defense Acquisition University.

Purpose(s):

To focus on acquisition-related topics and disciplines accessed by communities relating to contracting, logistics, program management, business management, cost estimating, facilities engineering, financial management, life cycle logistics, Science and Technology management, production/quality/manufacturing, software acquisition management, systems engineering, test and evaluation across DoD and the Federal Government, as well with Department of Defense contractors. Further information on current communities can be found at https://acc.dau.mil. The collection and use of names on this site supports verification during the registration process and enables members to interact; share resources, ideas and experiences to support job performance; and to avoid duplication of professional effort. Further information on current communities can be found at https://acc.dau.mil.

Routine uses of records maintained in the system, including categories of users and the purposes of such uses:

The DoD “Blanket Routine Uses” set forth at the beginning of OSD's compilation of systems of records notices applies to this system.

Policies and practices for storing, retrieving, accessing, retaining, and disposing of records in the system:

Storage:

Electronic storage media.

Retrievability:

Retrieved by individual's name.

Safeguards:

The system and associated database is maintained within the Defense Acquisition University's IT Network Facility on Ft. Belvoir, Virginia. Physical access is controlled by approved physical security methods. The requested data is voluntary and users consent to share their information with other contact.

Retention and disposal:

Records are destroyed when superseded or obsolete. Records are electronically deleted; records do not exist on paper.

System manager(s) and address:

Acquisition Community Connection Program Manager, Defense Acquisition University, 9820 Belvoir Road, Ft. Belvoir, VA 22060-5565.

Notification procedure:

Individuals seeking to determine whether information about themselves is contained in the system should address written inquiries to Defense Acquisition University, Acquisition Community Connection Program Manager, 9820 Belvoir Road, Ft. Belvoir, VA 22060-5565.

Request should contain full name, e-mail address, phone number and organization, and signature. Request should also refer to the name and number of this Privacy Act System of Record Notice.

Record access procedures:

Individuals seeking to access information about themselves contained in the system should address written inquiries to the OSD/JS FOIA Requester Service Center, 1155 Defense Pentagon, Washington, DC 20301-1155.

The request should refer to the name and number of this Privacy Act System of Record Notice; contain full name, e-mail address, phone number and organization, and signature.

Contesting record procedures:

The OSD rules for accessing records, for contesting contents and appealing initial agency determinations are published in OSD Administrative Instruction 81; 32 CFR part 311; or may be obtained from the system manager.

Record source categories:

Individuals.

Exemptions claimed for the system:

None.

[FR Doc. E8-26746 Filed 11-10-08; 8:45 am]

BILLING CODE 5001-06-P